DEPARTMENT OF ENERGY

Federal Energy Regulatory Commission

Combined Notice of Filings #1

Take notice that the Commission received the following electric corporate filings:

Docket Numbers: EC18-50-000.

Applicants: South Carolina Electric & Gas Company.

Description: Application for Federal Power Act Section 203 Approval and Request for Expedited Consideration of South Carolina Electric & Gas Company, et al.

Filed Date: 1/22/18.

Accession Number: 20180122-5200.

Comments Due: 5 p.m. ET 2/12/18.

Take notice that the Commission received the following exempt wholesale generator filings:

Docket Numbers: EG18-32-000.

Applicants: Gray Hawk Solar, LLC.

Description: Notice of Self-Certification of Exempt Wholesale Generator Status of Gray Hawk Solar, LLC.

Filed Date: 1/23/18.

Accession Number: 20180123-5065.

Comments Due: 5 p.m. ET 2/13/18.

Take notice that the Commission received the following electric rate filings:

Docket Numbers: ER17-426-003.

Applicants: Southwest Power Pool, Inc.

Description: Compliance filing: Missouri River Energy Services Member Formula Rate (Denison) Compliance Filing to be effective 2/1/2017.

Filed Date: 1/22/18.

Accession Number: 20180122-5159.

Comments Due: 5 p.m. ET 2/12/18.

Docket Numbers: ER18-360-001.

Applicants: Entergy Arkansas, Inc.

Description: Tariff Amendment: EAI-AECI LBA Agreement Errata to be effective 12/1/2017.

Filed Date: 1/22/18.

Accession Number: 20180122-5167.

Comments Due: 5 p.m. ET 2/12/18.

Docket Numbers: ER18-692-000.

Applicants: Midcontinent Independent System Operator, Inc.

Description: § 205(d) Rate Filing: 2018-01-22_SA 3084 St. Joseph Phase II-NIPSCO GIA (J351) to be effective 1/5/2018.

Filed Date: 1/22/18.

Accession Number: 20180122-5151.

Comments Due: 5 p.m. ET 2/12/18.

Docket Numbers: ER18-693-000,

Applicants: NorthWestern Corporation.

Description: Tariff Cancellation: Notice of Cancellation; SA 804, Fast Process Agreement with MDT (Fox Farm Road) to be effective 1/23/2018.

Filed Date: 1/22/18.

Accession Number: 20180122-5158.

Comments Due: 5 p.m. ET 2/12/18.

Docket Numbers: ER18-694-000.

Applicants: Pacific Gas and Electric Company.

Description: § 205(d) Rate Filing: La Paloma Generating Company GSFA and GIA Amendment (SA 18) to be effective 1/23/2018.

Filed Date: 1/22/18.

Accession Number: 20180122-5177.

Comments Due: 5 p.m. ET 2/12/18.

Docket Numbers: ER18-695-000.

Applicants: Baltimore Gas and Electric Company, PECO Energy Company.

Description: Request for Abandonment Costs Recovery Pre-Approval for PJM RTEP Project 9A of Baltimore Gas and Electric Company, et al.

Filed Date: 1/22/18.

Accession Number: 20180122-5196.

Comments Due: 5 p.m. ET 2/12/18.

Docket Numbers: ER18-696-000.

Applicants: Summer Energy Northeast, LLC.

Description: § 205(d) Rate Filing: REP Energy LLC Name Change to Summer Energy Northeast, LLC to be effective 1/23/2018.

Filed Date: 1/23/18.

Accession Number: 20180123-5048.

Comments Due: 5 p.m. ET 2/13/18.

Docket Numbers: ER18-697-000.

Applicants: Gray Hawk Solar, LLC.

Description: Baseline eTariff Filing: Application for Market-Based Rate Authorization to be effective 3/9/2018.

Filed Date: 1/23/18.

Accession Number: 20180123-5051.

Comments Due: 5 p.m. ET 2/13/18.

Docket Numbers: ER18-699-000.

Applicants: Wisconsin Electric Power Company.

Description: § 205(d) Rate Filing: Amendment to WPPI Metering Agreement (FERC Rate Schedule No. 115) to be effective 1/24/2018.

Filed Date: 1/23/18.

Accession Number: 20180123-5099.

Comments Due: 5 p.m. ET 2/13/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 23, 2018.
Nathaniel J. Davis, Sr.,
Deputy Secretary.

[FR Doc. 2018-01697 Filed 1-29-18; 8:45 am]

BILLING CODE 6717-01-P